FEDERAL TRADE COMMISSION

Delegation of Authority To Disclose Certain Nonpublic Information to Foreign Law Enforcement Agencies

AGENCY: Federal Trade Commission.

ACTION: Delegation of authority.

SUMMARY: The Commission has delegated authority to the Associate Director of the Division of Planning and Information to share certain non-public information with Canadian agencies and the Australian Competition and Consumer Commission. With respect to Canadian agencies, the authority may be redelegated to individual Regional Directors on specific cases and projects as appropriate.

EFFECTIVE DATE: With respect to the Australian Competition and Consumer Commission, the effective date of the delegation was July 17, 2000. With respect to the Canadian agencies, the effective date of the delegation was October 24, 2000.

FOR FURTHER INFORMATION CONTACT: Maneesha Mithal, Attorney, Division of Planning and Information, (202) 326-2771, mmithal@ftc.gov.

SUPPLEMENTARY INFORMATION: Notice is hereby given, pursuant to Reorganization Plan No. 4 of 1961, 26 FR 6191, that the Commission has delegated to the Associate Director for Planning and Information the authority to disclose: (1) To Canadian law enforcement agencies, information regarding consumer protection investigations involving Canadian businesses or consumers; and (2) to the Australian Competition and Consumer Commission, information regarding consumer protection investigations involving Australian businesses or consumers. With respect to Canada, the Associate Director can redelegate this authority to individual Regional Directors on specific cases and projects as appropriate.

This delegation does not apply to competition-related investigations. When exercising its authority under this delegation, staff will require from the relevant foreign law enforcement agency assurances of confidentiality. Disclosures shall be made only to the extent consistent with limitations on disclosure, including section 6(f) of the FTC Act, 15 U.S.C. 46(f), section 21 of the Act, 15 U.S.C. 57b-2, and Commission Rule 4.10(d), 16 CFR 4.10(d), and with the Commission's enforcement policies and other important interests. Where the subject matter of the information to be shared raises significant policy concerns, staff shall consult with the Commission before disclosing such information.

By direction of the Commission.
Donald S. Clark,
Secretary.

[FR Doc. 00-27953 Filed 10-30-00; 8:45 am]

BILLING CODE 6750-01-M